DEPARTMENT OF HOMELAND SECURITY

Federal Emergency Management Agency

44 CFR Part 67

[Docket No. FEMA-B-7439]

Proposed Flood Elevation Determinations

AGENCY: Federal Emergency Management Agency, Emergency Preparedness and Response Directorate, Department of Homeland Security.

ACTION: Proposed rule.

SUMMARY: Technical information or comments are requested on the proposed Base (1% annual chance) Flood Elevations (BFEs) and proposed BFE modifications for the communities listed below. The BFEs and modified BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the following table.

FOR FURTHER INFORMATION CONTACT: Doug Bellomo, P.E. Hazard Identification Section, Emergency Preparedness and Response Directorate, Federal Emergency Management Agency, 500 C Street SW., Washington, DC 20472, (202) 646-2903.

SUPPLEMENTARY INFORMATION: The Federal Emergency Management Agency proposes to make determinations of BFEs and modified BFEs for each community listed below, in accordance with Section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

National Environmental Policy Act. This proposed rule is categorically excluded from the requirements of 44 CFR Part 10, Environmental Consideration. No environmental impact assessment has been prepared.

Regulatory Flexibility Act. The Mitigation Division Director of the Emergency Preparedness and Response Directorate certifies that this proposed rule is exempt from the requirements of the Regulatory Flexibility Act because proposed or modified BFEs are required by the Flood Disaster Protection Act of 1973, 42 U.S.C. 4104, and are required to establish and maintain community eligibility in the NFIP. No regulatory flexibility analysis has been prepared.

Regulatory Classification. This proposed rule is not a significant regulatory action under the criteria of Section 3(f) of Executive Order 12866 of September 30, 1993, Regulatory Planning and Review, 58 FR 51735.

Executive Order 12612, Federalism. This proposed rule involves no policies that have federalism implications under Executive Order 12612, Federalism, dated October 26, 1987.

Executive Order 12778, Civil Justice Reform. This proposed rule meets the applicable standards of Section 2(b)(2) of Executive Order 12778.

List of Subjects in 44 CFR Part 67

Administrative practice and procedure, Flood insurance, Reporting and recordkeeping requirements.

Accordingly, 44 CFR Part 67 is proposed to be amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376, § 67.4

2. The tables published under the authority of § 67.4 are proposed to be amended as follows:

State | City/town/county | Source of flooding | Location | #Depth in feet above ground. Elevation in feet (NGVD): Existing | #Depth in feet above ground. Elevation in feet (NGVD): Modified
California | Goleta (City), Santa Barbara County | Maria Ygnacia Creek | Approximately 900 feet downstream of Hollister Avenue | None | *36
|  |  | Approximately 80 feet downstream of confluence of San Antonio Creek | None | *64
Depth in feet above ground.
Maps are available for inspection at City Hall, 6500 Hollister Avenue, Goleta, California 93117.
Send comments to The Honorable Jack Hawxhurst, Mayor, City of Goleta, 6500 Hollister Avenue, Suite 120, Goleta, California 93117.
Colorado | City and County, Broomfield | Rock Creek | At Brainard Drive (Country Road 19) | *5,307 | *5,309
|  |  | Approximately 200 feet upstream of West Flatiron Bridge | None | +5,373
Depth in feet above ground.
Maps are available for inspection at City Hall One Descombes Drive, Broomfield, Colorado 80020.
Send comments to The Honorable Karen Stuart, Mayor, City and County of Broomfield, One Descombes Drive, Broomfield, Colorado 80020.
Colorado | Pitkin County | Southside Split | Approximately 1,200 feet Flow downstream of State Highway 82 Bypass | None | *6,558
|  |  | Approximately 6,000 feet upstream of State Highway/ 82 Bypass | None | *6,637
|  | Roaring Fork River | Approximately 5,500 feet downstream of Hooks Spur Road | *6,524 | *6,526
|  |  | Approximately 50 feet downstream of confluence of Snowmass Creek | *6,844 | *6,844
Depth in feet above ground.
Maps are available for inspection at the GIS Department, 130 South Galena Street, Aspen, Colorado 81611.
Send comments to The Honorable Jack Hatfield, Chairperson, Pitkin County Board of Commissioners, 530 East Main Street, Third Floor, Aspen, Colorado 81611.
Idaho | Kootenai County | Coeur d'Alene River | Approximately 1.5 miles downstream of Interstate Highway 90 | *2,145 | *2,145
|  |  | Approximately 100 feet upstream of the Abandoned Union Pacific Railroad | *2,148 | *2,151
|  | Coeur d'Alene | At Tamarack Ridge Road | *2,146 | *2,145
|  | River Overflow | Mission Flats area north of Interstate 90 | *2,146 | *2,145
Depth in feet above ground.
Maps are available for inspection at the Kootenai County Planning Department, 451 Government Way, Coeur d'Alene, Idaho 83816.
Send comments to The Honorable Richard Panabaker, Chairperson, Kootenai County Board of Commissioners, 451 Government Way, Coeur d'Alene, Idaho 83816.
North Dakota | Bismarck (City), Burleigh County | Missouri River | Approximately 3.8 miles upstream of confluence of Little Heart River | *1,631 | *1,632
|  |  | Approximately 1.7 miles upstream of Old Brunt Creek | *1,638 | *1,639
Depth in feet above ground.
Maps are available for inspection at the Building Inspection Office, 1020 East Central Avenue, Bismarck, North Dakota 58501.
Send comments to The Honorable John Warford, Mayor, City of Bismarck, P.O. Box 5503, Bismarck, North Dakota 58506-5503.
North Dakota | Burleigh County | Missouri River | Approximately 500 feet downstream of confluence of Apple Creek | *1,627 | *1,628
|  |  | Approximately 5.7 miles upstream of confluence Square Butte Creek | *1,643 | *1,644
|  | Burnt Creek | At confluence with Missouri River | *1,639 | *1,640
|  |  | Just upstream of North Dakota Highway 1804 | *1,646 | *1,650
Depth in feet above ground.
Maps are available for inspection at the County Building Inspections Office, 1020 East Central Avenue, Bismarck, North Dakota 58501.
Send comments to The Honorable Claus Lembke, Chairman, Burleigh County Board of Commissioners, 221 North Fifth Street, Bismarck, North Dakota 58506.
North Dakota | Mandan (City), Morton County | Missouri River | Approximately 1.1 miles downstream of Bismarck Expressway bridge | *1,634 | *1,635
|  |  | Approximately 2.8 miles upstream of Interstate Highway 94 | *1,638 | *1,639
Depth in feet above ground.
Maps are available for inspection at City Hall, 205 Second Avenue, Northwest, Mandan, North Dakota 58554.
Send comments to The Honorable Ken LaMont, Mayor, City of Mandan, 205 Second Avenue, Northwest, Mandan, North Dakota 58554.
North Dakota | Morton County | Missouri River | At confluence of Apple Creek | *1,627 | *1,628
|  |  | Approximately 5.7 miles upstream of confluence of Square Butte Creek | *1,643 | *1,644
Depth in feet above ground.
Maps are available for inspection at the County Courthouse, 210 Second Avenue, Northwest, Mandan, North Dakota 58554.
Send comments to The Honorable Dick Tokach, Chairman, Morton County Board of Commissioners, 210 Second Avenue, Northwest, Mandan, North Dakota 58554.
South Dakota | Standing Rock Sioux Tribe | Grand River (at Bullhead) | Approximately 4,000 feet downstream of confluence of Rock Creek | None | +1,759
|  |  | Approximately 4,600 feet upstream of confluence of Stink Creek | None | +1,774
|  | Grand River (at Little Eagle) | Approximately 3.4 miles downstream of State Route | None | +1,638
|  |  | Approximately 2,000 feet upstream of State Route 63 | None | +1,651
|  | Oak Creek | Approximately 7,500 feet downstream of Sewage Lagoons | None | +1,622
|  |  | Approximately 2,900 feet upstream of Old Irrigation Dam | None | +1,646
|  | Rock Creek | At confluence with Grand River (at Bullhead) | None | +1,761
|  |  | Approximately 7,500 feet upstream of Bullhead Road | None | +1,793
Depth in feet above ground.
Maps are available for inspection at the Tribal Land Management, South River Road, Fort Yates, North Dakota 58538.
Send comments to The Honorable Charles Murphy, Chairman, Standing Rock Sioux Tribe, P.O. Box D, Fort Yates, North Dakota 58538.
South Dakota | Cheyenne River Sioux Tribe, Dewey and Ziebach County | Bear Creek | Approximately 5,800 feet upstream of State Route 65 | None | +2,345
|  |  | Just upstream of Cherry Road | None | +2,357
|  |  | Approximately 1,200 feet upstream of U.S. Route 212 | None | +2,365
|  | Cherry Creek | At confluence with Cheyenne River | None | +1,723
|  |  | Just upstream of Main Street | None | +1,729
|  |  | Approximately 7,000 feet upstream of Main Street | None | +1,735
|  | Cheyenne River | Approximately 6,200 feet upstream of Plum Creek | None | +1,714
|  |  | Just upstream confluence of Cherry Creek | None | +1,723
|  |  | Approximately 1,730 feet upstream confluence of Cherry Creek | None | +1,728
|  | Virgin Creek | Approximately 5,800 feet downstream of U.S. Route 212 | None | +1,896
|  |  | Just upstream of U.S. Route 212 | None | +1,914
|  |  | Approximately 3 miles upstream of U.S. Route 212 | None | +1,950
Depth in feet above ground.
Maps are available for inspection at the Economic Development Center, P.O. Box 590, Eagle Butte, South Dakota 57625.
Send comments to The Honorable Harold Frazier, Tribal Chairman, Cheyenne River Sioux Tribe, P.O. Box 590, Eagle Butte, South Dakota 57625.

Eagle County, and Incorporated Areas
Flooding source(s) | Location of referenced elevation | Elevation in feet *(NGVD) Elevation in feet + (NAVD): Effective | Elevation in feet *(NGVD) Elevation in feet + (NAVD): Modified | Communities affected
Buffehr Creek | At confluence with Gore Creek | *7,951 | +7,956 | Eagle County.
| Approximately 1,700 feet upstream of Circle Drive | None | +8,180 | (Uninc. Area) and Town of Vail.
Black Gore Creek | At confluence with Lower Gore Creek | *8,574 | +8,575 | Town of Vail.
| Approximately 1,280 feet upstream of confluence with Lower Gore Creek | *8,632 | +8,628 |
Bighorn Creek | At confluence with Gore Creek | *8,422 | +8,431 | Town of Vail.
| Approximately 350 feet upstream of Columbine Drive | None | +8,639 |
Middle Creek | At confluence with Gore Creek | *8,112 | +8,118 | Town of Vail.
| Approximately 850 feet upstream of Interstate Highway 70 | *8,330 | +8,335
Pitkin Creek | At confluence with Gore Creek | *8,358 | +8,366 | Town of Vail.
| Approximately 200 feet upstream of Fall Line Drive | None | +8,454 | Town of Vail.
Red Sandstone Creek | At confluence with Gore Creek | *8,071 | +8,078 |
| Just upstream of Potato Patch Drive | None | +8,254 |
Roaring Fork River | At Eagle County/Garfield County boundary | None | +6,380 | Eagle County.
| Just downstream of Emma Road | None | +6,600 | (Uninc. Areas) and Town of Basalt.
South Side Split Flow | At confluence with Roaring Fork River | None | +6,553 | Eagle County.
| Approximately 1,200 feet downstream of State Highway 82 Bypass | None | +6,563 | (Uninc. Areas) and Town of Basalt.
Eagle River | Approximately 500 feet downstream of U.S. Highway 6 | *6,273 | +6,277 | (Uninc. Areas).
| Just downstream of confluence with Brush Creek | None | +6,502 |
East Mill Creek | At confluence with Gore Creek | *8,168 | +8,175 | Eagle County.
| Just upstream of Vail Road | None | +8,292 | (Uninc. Areas) and Town of Vail.
Gore Creek | Just upstream of confluence with Eagle River |  |  | Eagle County.
| At confluence with Upper and Lower Gore Creek | None | +8,561 | (Uninc. Areas) and Town of Vail.
Lower Gore Creek | At confluence with Gore Creek | *8,555 | +8,561 | Eagle County.
| At Divergence from Upper Gore Creek | None | +8,610 | (Uninc. Areas) and Town of Vail.
Spraddle Creek | At confluence with Gore Creek | *8,132 | +8,138 | Town of Vail.
| Approximately 1,150 feet upstream of Interestate Highway 70 | None | +8,274 |
Upper Gore Creek | At confluence with Gore Creek | *8,556 | +8,562 | Eagle County.
| Approximately 1,000 feet upstream of Interstate Highway 70 westbound | None | +8,682 | (Uninc. Areas) and Town of Vail.
West Mill Creek | Just downstream of Gore Drive | *8,176 | +8,165 | Eagle County.
| Just upstream of Vail Road | None | +8,292 | (Uninc. Areas) and Town of Vail.
Booth Creek | At confluence with Gore Creek | *8,290 | +8,296 | Town of Vail.
| Approximately 1,300 feet upstream of interstate Highway 70 | *8,384 | +8,392 |
# Depth in feet above ground.
* National Geodetic Datum.
+ National American Vertical Datum.
Addresses: Unincorporated Areas Eagle County:
Maps are available for inspection at 500 Broadway Street, Eagle, Colorado 81631.
Send comments to the Honorable Michael Gallagher, Chairman Eagle County Board of Commissioners, P.O. Box 850, Eagle, Colorado 81631.
Town of Gypsum:
Maps are available for inspection at 50 Lundgren Boulevard, Gypsum, Colorado 81637.
Send comments to the Honorable Stephen M. Carver, Mayor, Town of Gypsum, P.O. Box 28, Gypsum, Colorado 81637.
Town of Basalt:
Maps are available for inspection at the Town Hall, 101 Midland Avenue, Basalt, Colorado 81621.
Send comments to the Honorable Richard P. Stevens, Mayor, Town of Basalt, Town Hall, 101 Midland Avenue, Basalt, Colorado 81621.
Town of Vail:
Maps are available for inspection at the Community Development Office, 75 South Frontage Road, Vail, Colorado 81657.
Send comments to the Honorable Ludwig Kurz, Mayor, Town of Vail, 75 South Frontage Road, Vail, Colorado 81657.

Charles Mix County, and Incorporated Areas
Flooding source(s) | Location of referenced elevation | Elevation in feet *(NGVD) Elevation in feet + (NAVD): Effective | Elevation in feet *(NGVD) Elevation in feet + (NAVD): Modified | Communities affected
Unnamed Creek (near Wagner). | Approximately 400 feet upstream of 396th Avenue | None | *1,413 | Yankton Sioux Tribe and City of Wagner.
| Approximately 600 feet downstream of 394th Avenue | None | *1,458
Left Bank Tributary of Mosquito Creek (near Marty) | Approximately 1,400 feet downstream of 303rd Street | None | *1,434 | Yankton Sioux Tribe.
| Approximately 1,950 feet upstream of 303rd Street | None | *1,458
# Depth in feet above ground.
* National Geodetic Datum.
+ National American Vertical Datum.
Addresses: Yankton Sioux Tribe:
Maps are available for inspection at 100 North Main Street, Marty, South Dakota 57361.
Send comments to the Honorable Madonna Archambeau, Tribal Chairwoman, Yankton Sioux Tribe, 100 Main Street, Marty South Dakota 57361.
City of Wagner:
Maps are available for inspection at the City Hall, 106 Sheridan Avenue, Southeast, Wagner, South Dakota 57380.
Send comments to the Honorable Sharon Haar, Mayor, City of Wagner, 106 Sheridan Avenue, Southeast, Wagner, South Dakota 57380.

King County, and Incorporated Areas
Flooding source(s) | Location of referenced elevation | Elevation in feet *(NGVD) Elevation in feet + (NAVD): Effective | Elevation in feet *(NGVD) Elevation in feet + (NAVD): Modified | Communities affected
Snoqualmie River | Approximately 2,000 feet downstream of confluence of Middle Fork and South Fork Snoqualmie River | *425 | *424 | King County (Uninc. Areas) and City of Snoqualmie.
South Fork Snoqualmie River | At confluence with Middle Fork Snoqualmie River | *427 | *425 | King County (Uninc. Areas), City of Snoqualmie, and City of North Bend.
| Approximately 700 feet upstream of eastbound I-90 bridge | *475 | *475 |
Middle Fork Snoqualmie River. | At confluence of North Fork Snoqualmie River | *426 | *426 | King County (Uninc. Areas) and City of Snoqualmie.
| Approximately 260 feet downstream of Southeast Mount SI Road | *478 | *478 |
Lower Overflow | At Southeast 100th Street | *429 | *428 | King County (Uninc. Areas) and City of North Bend.
| Approximately 1,400 feet upstream of North Pickett Avenue | None | *449 |
Middle Overflow | Just upstream of Northeast 420th Avenue | *431 | *432 | King County (Uninc. Areas) and City of North Bend.
| At Borst Avenue Northeast | #2 | *441 |
Upper South Overflow | Approximately 400 feet downstream of Ballarat Avenue North | #2 | *437 | King County (Uninc. Areas) and City of North Bend.
| At divergence from Middle Fork Snoqualmie River | *467 | *467 |
Upper North Overflow | Approximately 150 feet downstream of Ogle Avenue Northeast | #2 | *441 | King County (Uninc. Areas) and City of North Bend.
| Approximately 400 feet downstream of 120th Street | *460 | *457 |
Gardiner Creek | At Bolch Avenue Northwest | None | *429 | King County (Uninc. Areas) and City of North Bend.
| Upstream of Northwest Eighth Street | None | *435 |
# Depth in feet above ground.
* National Geodetic Datum.
+ National American Vertical Datum.
Addresses: Unincorporated Areas of King County:
Maps are available for inspection at the King DDES, Blackriver Corp. Park, 900 Oakesdale Avenue Southwest, Suite 100, Renton, Washington 98055.
Send comments to the Honorable Ron Sims, King County Executive, 516 Third Avenue, Suite 400, Seattle, Washington 98104.
City of North Bend:
Maps are available for inspection at 1155 East North Bend Way, North Bend, Washington 98045.
Send comments to the Honorable Joan Simpson, Mayor, City of North Bend, P.O. Box 896, North Bend, Washington 98045.
City of Snoqualmie:
Maps are available for inspection at the Planning Directors Office, 8020 Railroad Avenue Southeast, Snoqualmie, Washington 98065.
Send comments to the Honorable Randy Fletcher, Mayor, City of Snoqualmie, P.O. Box 987, Snoqualmie, Washington 98065.

(Catalog of Federal Domestic Assistance No. 83.100, “Flood Insurance.”)
Dated: September 30, 2003.
Anthony S. Lowe,
Mitigation Division Director, Emergency Preparedness and Response Directorate.

[FR Doc. 03-25346 Filed 10-6-03; 8:45 am]

BILLING CODE 6718-04-P